COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List products and services to be furnished by nonprofit agencies employing persons who are blind or have other severe disabilities, and to delete products previously furnished by such agencies.

Comments Must Be Received on or Before: 6/22/2009.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: 7530-01-346-4849—Pad, Writing Paper (Yellow 3 x 5 Note).

NSN: 7530-01-425-4088—Pad, Writing Paper (4 x 5 Phone Message).

NPA: Assoc f/t Blind &Visually Impaired & Goodwill Ind. of Greater Rochester, Rochester, NY

Contracting Activity: Federal Acquisition Service, GSA/FSS OFC SUP CTR—Paper Products, New York, NY.

Coverage: A-List for the total Government requirement as aggregated by the General Services Administration.

NSN: 7530-01-033-8891—Paper, Copying, Xerographic Process.

NPA: Louisiana Association for the Blind, Shreveport, LA.

Contracting Activity: Federal Acquisition Service, GSA/FSS OFC SUP CTR—Paper Products, New York, NY.

Coverage: A-list for the total Government requirement as aggregated by the General Services Administration.

Services

Service Type/Location: Food Service Attendant. Rickenbacker Reserve, Redtail Building Reserve Base, 7370 Minuteman Way, Columbus, OH.

NPA: Goodwill Columbus Outsource Solutions, Columbus, OH.

Contracting Activity: Dept of the Army, XRAW7NU USPFO Activity OH ARNG, Columbus, OH.

Service Type/Location: Base Supply Center/Individual Equipment Element Hazmat (BSC/IEE Hazmat) Forbes Field, KS, ISPFO for Kansas, 2737 S. Kansas Avenue, Topeka, KS.

NPA: Industries for the Blind, Inc., West Allis, WI.

Contracting Activity: DOD/Department of the Air Force, Kirtland AFB, NM.

Service Type/Location: Custodial Services, Ellington Field—Houston, TX, 14555 Scholl Street, Houston, TX.

NPA: On Our Own Services, Inc., Houston, TX

Contracting Activity: Dept of the Army, XR W6bb ACA Presidio of Monterey, CA.

Service Type/Location: Vehicle Retrofitting Service.

Retrofit Facility (Prime Contract): Bremerton, WA, Skookum Contract Services, 2600 Burwell Street, Bremerton, WA.

NPA: Skookum Educational Programs, Bremerton, WA

Contracting Activity: Bureau of Customs and Border Protection, SBI Acquisition Office, Washington, DC.

Requirement: 100% of the vehicles that overflow/exceed the capacity of Federal Prison Industries' to provide the service; designated NPA will produce 50% of the requirement of overflow of vehicles

Service Type/Location: Vehicle Retrofitting Service, Good Vocations, Inc., 5171 Eisenhower Parkway, Macon, GA.

NPA: Good Vocations, Inc., Macon, GA.

Contracting Activity: Bureau of Customs and Border and Protection, SBI Acquisition Office, Washington, DC.

Requirement: 100% of the vehicles that overflow/exceed the capacity of Federal Prison Industries' to provide the service; designated NPA will produce 50% of the requirement of overflow of vehicles.

Service Type/Location: Recycling Services, Martinsburg Computing Center, 250 Murall Drive, Kearneysville, WV.

NPA: NW Works, Inc., Winchester, VA

Contracting Activity: Internal Revenue Service, Dept of Treasury, IRS, Office of Procurement Operations, Oxon Hill, MD.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

NSN: 7520-01-484-5262—Pen, Retractable, Transparent, Cushion Grip “VISTA.”

NPA: Industries of the Blind, Inc., Greensboro, NC.

Contracting Activity: GSA/FSS OFC SUP CTR—Paper Products, New York, NY

NSN: 7520-01-445-0737—File, Horizontal Desk.

NSN: 7520-01-445-0738—File, Horizontal Desk.

NSN: 7520-01-445-0740—File, Horizontal Desk.

NSN: 7520-01-445-0742—File, Horizontal Desk.

NSN: 7520-01-445-0734—File, Horizontal Desk.

NSN: 7520-01-452-1559—File, Horizontal Desk.

NPA: Occupational Development Center, Inc., Thief River Falls, MN.

Contracting Activity: GSA/FSS OFC SUP CTR—Paper Products, New York, NY.

NSN: 7520-01-483-8987—Presentation Sheets, “SmartChart Economy.”

NSN: 7520-01-483-8976—Presentation Sheets, “SmartChart”, Refill Roll.

NPA: The Lighthouse for the Blind, Inc. (Seattle Lighthouse), Seattle, WA.

Contracting Activity: GSA/FSS OFC SUP CTR—Paper Products, New York, NY.

Barry S. Lineback,
Director, Business Operations.

[FR Doc. E9-11973 Filed 5-21-09; 8:45 am]

BILLING CODE 6353-01-P